DEPARTMENT OF TRANSPORTATION

Federal Aviation Administration

14 CFR Part 39

[Docket No. 2002-NM-254-AD; Amendment 39-13702; AD 2004-13-20]

RIN 2120-AA64

Airworthiness Directives; Aircraft Equipped With Garmin AT, Apollo GX Series Global Positioning System (GPS) Navigation Units With Software Versions 3.0 through 3.4 Inclusive

AGENCY: Federal Aviation Administration, DOT.

ACTION: Final rule.

SUMMARY: This amendment adopts a new airworthiness directive (AD), applicable to aircraft equipped with Garmin AT, Apollo GX series GPS navigation units with software versions 3.0 through 3.4 inclusive, that requires modification and testing of the software for Apollo GX50/55/60/65 TSO-C129a GPS navigation units; and reidentification of the part. This action is necessary to prevent the GPS navigation unit, under certain conditions, from providing erroneous cross-deviation information, which could result in the aircraft deviating from its intended course for a brief period of time. Erroneous information may also place an excessive workload on the flightcrew while they monitor other available navigation data to avoid deviating off course. This action is intended to address the identified unsafe condition.

DATES: Effective August 3, 2004.

The incorporation by reference of a certain publication listed in the regulations is approved by the Director of the Federal Register as of August 3, 2004.

ADDRESSES: The service information referenced in this AD may be obtained from Garmin AT, 2345 Turner Road Southeast, Salem, Oregon 97302. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Walter Cameron, Aerospace Engineer, Systems and Equipment Branch, ANM-130S, FAA, Seattle Aircraft Certification Office, 1601 Lind Avenue, SW., Renton, Washington 98055-4056; telephone (425) 917-6460; fax (425) 917-6590.

SUPPLEMENTARY INFORMATION: A proposal to amend part 39 of the Federal Aviation Regulations (14 CFR part 39) to include an airworthiness directive (AD) that is applicable to aircraft equipped with Garmin AT, Apollo GX series GPS navigation units with software versions 3.0 through 3.4 inclusive was published in the Federal Register on April 1, 2004 (69 FR 17076). That action proposed to require modification and testing of the software for Apollo GX50/55/60/65 TSO-C129a GPS navigation units; and reidentification of the part.

Comments

Interested persons have been afforded an opportunity to participate in the making of this amendment. No comments were submitted in response to the proposal or the FAA's determination of the cost to the public.

Conclusion

The FAA has determined that air safety and the public interest require the adoption of the rule as proposed.

Cost Impact

We do not know how many aircraft equipped with Apollo GX series GPS navigation units (software versions 3.0 through 3.4 inclusive) of the affected design are on the U.S. Register. However, we do know that the GPS navigation units might be installed on 1,176 aircraft worldwide. It will take approximately 1 work hour per aircraft to accomplish the required modification, at an average labor rate of $65 per work hour. The parts manufacturer will provide the required parts at no cost to the operator. Based on these figures, the cost impact of the AD on U.S. operators is estimated to be $65 per aircraft.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this AD. As a result, the costs attributable to the AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-13-20 Garmin AT (formerly UPS Aviation Technologies, Inc.): Amendment 39-13702. Docket 2002-NM-254-AD.

Applicability: Aircraft equipped with Garmin AT, Apollo GX50/55/60/65 TSO-C129a global positioning system (GPS) navigation units with software versions 3.0 through 3.4 inclusive; as listed in UPS Aviation Technologies Service Bulletin 561-4002-001, dated April 19, 2002; certificated in any category.

Compliance: Required as indicated, unless accomplished previously.

To prevent the GPS navigation unit, under certain conditions, from providing erroneous cross-deviation information, which could result in the aircraft deviating from its intended course for a brief period of time; and to also prevent erroneous information from placing an excessive workload on the flightcrew while they monitor other available navigation data to avoid deviating off course; accomplish the following:

Software Modification, Testing, and Reidentification

(a) Within 6 months after the effective date of this AD, do the actions specified in paragraphs (a)(1) and (a)(2) of this AD, according to the Accomplishment Instructions of UPS Aviation Technologies Service Bulletin 561-4002-001, dated April 19, 2002.

(1) Modify and test the software for the Apollo GX50/55/60/65 TSO-C129a GPS navigation unit by accomplishing all of the actions specified in paragraphs 3.B. and 3.C. of the service bulletin.

(2) Reidentify the modified Apollo GX50/55/60/65 TSO-C129a GPS navigation unit, according to paragraph 3.D. of the service bulletin.

Alternative Methods of Compliance

(b) In accordance with 14 CFR 39.19, the Manager, Seattle Aircraft Certification Office, FAA, is authorized to approve alternative methods of compliance (AMOCs) for this AD.

Incorporation by Reference

(c) The actions shall be done in accordance with UPS Aviation Technologies Service Bulletin 561-4002-001, dated April 19, 2002. This incorporation by reference was approved by the Director of the Federal Register in accordance with 5 U.S.C. 552(a) and 1 CFR part 51. Copies may be obtained from Garmin AT, 2345 Turner Road Southeast, Salem, Oregon 97302. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Effective Date

(d) This amendment becomes effective on August 3, 2004.

Issued in Renton, Washington, on June 17, 2004.
Ali Bahrami,
Acting Manager, Transport Airplane Directorate, Aircraft Certification Service.

[FR Doc. 04-14573 Filed 6-28-04; 8:45 am]

BILLING CODE 4910-13-P